DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than June 17, 2016.

Interested persons are invited to submit written comments regarding the subject matter of the investigations to the Director, Office of Trade Adjustment Assistance, at the address shown below, not later than June 17, 2016.

The petitions filed in this case are available for inspection at the Office of the Director, Office of Trade Adjustment Assistance, Employment and Training Administration, U.S. Department of Labor, Room N-5428, 200 Constitution Avenue NW., Washington, DC 20210.

Signed at Washington, DC this 24th day of May 2016.
Jessica R. Webster,
Certifying Officer, Office of Trade Adjustment Assistance.

Appendix
[78 TAA petitions instituted between 4/29/16 and 5/20/16]
TA-W | Subject firm (petitioners) | Location | Date of institution | Date of petition
91755 | Kraft-Heinz (Workers) | Allentown, PA | 04/29/16 | 04/28/16
91756 | Schlumberger Technology Corporation (Workers) | Bakersfield, CA | 04/29/16 | 04/28/16
91757 | Lewis Bakery (Union) | Vincennes, IN | 04/29/16 | 04/28/16
91758 | Hawaiian Commercial & Sugar Company (HC&S) (Union) | Puunene, HI | 04/29/16 | 04/26/16
91759 | Dynegy Midwest Generation (Union) | Alton, IL | 05/02/16 | 04/29/16
91760 | Four Seasons Residence Club (State/One-Stop) | Carlsbad, CA | 05/02/16 | 04/29/16
91761 | Agility Logistics (State/One-Stop) | Irvine, CA | 05/02/16 | 04/29/16
91762 | RR Donnelley (State/One-Stop) | Portland, OR | 05/02/16 | 04/29/16
91763 | Cigna (State/One-Stop) | Bloomfield, CT | 05/03/16 | 05/02/16
91764 | QVC St. Lucie, Inc (State/One-Stop) | Port Saint Lucie, FL | 05/03/16 | 05/02/16
91765 | St. Peter's Health Partners-Transcription Unit (State/One-Stop) | Albany, NY | 05/03/16 | 05/02/16
91766 | Berwick Offray, LLC (State/One-Stop) | Lansing, IA | 05/03/16 | 05/02/16
91767 | Mount Vernon Mills Cuero Plant (Company) | Cuero, TX | 05/03/16 | 04/13/16
91768 | Accuri Cytometers, Inc. (Workers) | Ann Arbor, MI | 05/03/16 | 04/26/16
91769 | Eaton Aurora (Company) | Aurora, OH | 05/03/16 | 04/15/16
91770 | US Synthetics (Workers) | Orem, UT | 05/04/16 | 05/03/16
91771 | QBE North America (State/One-Stop) | Jacksonville, FL | 05/04/16 | 05/03/16
91772 | Blount International (State/One-Stop) | Portland, OR | 05/04/16 | 05/03/16
91773 | CH2M Hill (State/One-Stop) | Bellington, WA | 05/04/16 | 05/03/16
91774 | Honeywell International PMT Customer Service Division (Union) | Des Plaines, IL | 05/05/16 | 05/04/16
91775 | Honeywell International PMT Customer Service Division (State/One-Stop) | McCook, IL | 05/05/16 | 05/04/16
91776 | Honeywell International PMT Customer Service Division (State/One-Stop) | Saraland, AL | 05/05/16 | 05/04/16
91777 | UTC Aerospace Systems (Company) | Cleveland, OH | 05/05/16 | 05/04/16
91778 | Fujitsu America Inc. (State/One-Stop) | Richardson, TX | 05/05/16 | 05/04/16
91779 | MTE Corporation (Company) | Menomonee Falls, WI | 05/06/16 | 05/05/16
91780 | Newmont Mining Corporation (State/One-Stop) | Greenwood Village, CO | 05/06/16 | 05/05/16
91781A | Magnetics Division of Spang & Company (Company) | Pittsburgh, PA | 05/06/16 | 05/05/16
91781 | Magnetics Division of Spang & Company (Company) | East Butler, PA | 05/06/16 | 05/05/16
91782 | Veris Industries/Schneider Electric SE (State/One-Stop) | Portland, OR | 05/06/16 | 05/05/16
91783 | Iron Mountain (State/One-Stop) | Cerritos, CA | 05/06/16 | 05/05/16
91784 | All State Sales and Administrative Services (State/One-Stop) | Syracuse, NY | 05/06/16 | 05/05/16
91785 | Campbell Global, LLC (State/One-Stop) | Fort Bragg, CA | 05/06/16 | 05/05/16
91786 | Irathane Systems, Industrial Rubber Applicators (Union) | Hibbing, MN | 05/06/16 | 05/05/16
91787 | Jersey Shore Steel Company (Company) | Jersey Shore, PA | 05/09/16 | 05/06/16
91788 | Cyrus Hosiery (State/One-Stop) | Vernon, CA | 05/09/16 | 05/06/16
91789 | Genpact (State/One-Stop) | Parsippany, NJ | 05/09/16 | 05/09/16
91790 | Cenntro Motors USA (State/One-Stop) | Sparks, NV | 05/09/16 | 05/05/16
91791 | Woodard & Curran (State/One-Stop) | Madison, ME | 05/09/16 | 05/06/16
91792 | Vindex Energy Corporation (State/One-Stop) | Oakland, MD | 05/10/16 | 05/09/16
91793 | ATI Cast Products (State/One-Stop) | Albany, OR | 05/10/16 | 05/09/16
91794 | Borets Co LLC (Workers) | Tulsa, OK | 05/10/16 | 04/29/16
91795 | Johnson Controls Inc. (Union) | Milwaukee, WI | 05/12/16 | 05/11/16
91796 | Remington Outdoor Company (Workers) | Hickory, KY | 05/12/16 | 05/11/16
91797 | Toshiba America Information Systems Inc. (State/One-Stop) | Irvine, CA | 05/12/16 | 05/11/16
91798 | Eaton Corporation (State/One-Stop) | Hutchinson, KS | 05/12/16 | 05/11/16
91799 | Bushell Ribon Corporation (State/One-Stop) | Santa Fe Springs, CA | 05/12/16 | 05/11/16
91800 | MBA Health Group (Company) | South Burlington, VT | 05/12/16 | 05/12/16
91801 | Allegheny Techologies Incorporated (Union) | Latrobe, PA | 05/13/16 | 05/12/16
91802 | Sage Biopharma—Coopers Surgical Inc. (State/One-Stop) | Pasadena, CA | 05/13/16 | 05/12/16
91803 | VF Contemporary Brands, Inc. (State/One-Stop) | Vernon, CA | 05/13/16 | 05/12/16
91804 | American Grass Seed Producers, Inc. (State/One-Stop) | Tangent, OR | 05/13/16 | 05/12/16
91805 | Green Willow Grains (State/One-Stop) | Tangent, OR | 05/13/16 | 05/12/16
91806 | Stalford Seed Farm (State/One-Stop) | Tangent, OR | 05/13/16 | 05/12/16
91807 | Cardone Industries (Company) | Philadelphia, PA | 05/13/16 | 05/12/16
91808 | Resolute Forest Products (Company) | Augusta, GA | 05/13/16 | 05/12/16
91809 | Sprint (State/One-Stop) | Overland Park, KS | 05/13/16 | 05/12/16
91810 | National Oilwell Varco (State/One-Stop) | Houston, TX | 05/16/16 | 05/13/16
91811 | Sykes Enterprises, Incorporated (Company) | Langhorne, PA | 05/16/16 | 05/13/16
91812 | Trinity Railcar Industries (Workers) | Longview, TX | 05/16/16 | 05/13/16
91813 | Xerox (State/One-Stop) | Webster, NY | 05/16/16 | 05/13/16
91814 | Weatherford ALS (Workers) | Longview, TX | 05/16/16 | 05/13/16
91815 | Verizon Enterprise Services (Verizon Business Network Services, Inc.) (State/One-Stop) | Rochester, NY | 05/16/16 | 05/13/16
91816 | Nike Foundation (State/One-Stop) | Beaverton, OR | 05/17/16 | 05/16/16
91817 | Veritas (State/One-Stop) | Springfield, OR | 05/17/16 | 05/16/16
91818 | Johnson Controls (State/One-Stop) | West Allis, WI | 05/17/16 | 05/16/16
91819 | Condor Flugdienst GmbH, A division of Thomas Cook Group (State/One-Stop) | Itasca, IL | 05/18/16 | 05/17/16
91820 | Verizon Conferencing/Verizon Enterprise Solutions (State/One-Stop) | Cedar Rapids, IA | 05/18/16 | 05/17/16
91821 | Siemens Medical Solutions USA, Inc. (Company) | Wood Dale, IL | 05/19/16 | 05/18/16
91822 | The Google Store (Retail Store) (State/One-Stop) | Mountain View, CA | 05/19/16 | 05/18/16
91823 | The News & Observer (Owned by The McClatchy Company) (Workers) | Raleigh, NC | 05/19/16 | 05/18/16
91824 | Paso Del Norte Publishing, Inc. (Workers) | El Paso, TX | 05/19/16 | 05/18/16
91825 | Mondelez International (Workers) | East Hanover, NJ | 05/19/16 | 04/25/16
91826 | US Synthetic Corp & Subs (Workers) | Orem, UT | 05/20/16 | 05/19/16
91827 | Chandler Industries (State/One-Stop) | Montevideo, MN | 05/20/16 | 05/19/16
91828 | Waste Management Nat'l Services (Workers) | Phoenix, AZ | 05/20/16 | 05/19/16
91829 | Jive Software (State/One-Stop) | Portland, OR | 05/20/16 | 05/19/16
91830 | ADS Alliance Data Systems, Inc./Epsilon Data Mgmt. LLC (State/One-Stop) | Irvine, TX | 05/20/16 | 05/16/16
91831 | Vesta Corp. (State/One-Stop) | Portland, OR | 05/20/16 | 05/19/16

[FR Doc. 2016-13344 Filed 6-6-16; 8:45 am]

BILLING CODE 4510-FN-P